DEPARTMENT OF COMMERCE

Foreign-Trade Zones Board

[B-68-2016]

Foreign-Trade Zone (FTZ) 277—Western Maricopa County, Arizona; Notification of Proposed Production Activity; IRIS USA, Inc. (Plastic Household Storage/Organizational Containers); Surprise, Arizona

IRIS USA, Inc. (IRIS) submitted a notification of proposed production activity to the FTZ Board for its facility in Surprise, Arizona, within FTZ 277. The notification conforming to the requirements of the regulations of the FTZ Board (15 CFR 400.22) was received on September 29, 2016.

The IRIS facility is located within Site 12 of FTZ 277. The facility is used to produce plastic household storage/organizational containers and pet carriers/pens. Pursuant to 15 CFR 400.14(b), FTZ activity would be limited to the specific foreign-status materials and components and specific finished products described in the submitted notification (as described below) and subsequently authorized by the FTZ Board.

Production under FTZ procedures could exempt IRIS from customs duty payments on the foreign-status components used in export production. On its domestic sales, IRIS would be able to choose the duty rates during customs entry procedures that apply to plastic household storage/organizational containers and pet carriers/pens (duty rates range from free to 5.3%) for the foreign-status inputs noted below. Customs duties also could possibly be deferred or reduced on foreign-status production equipment.

The components and materials sourced from abroad include: polypropylene resin; plastic handles/buckles; steel latch plates/drawer locks/hinges/latch sets; steel/plastic casters; aluminum tubes; and, rubber caps (duty rates range from 2.5% to 6.5%).

Public comment is invited from interested parties. Submissions shall be addressed to the FTZ Board's Executive Secretary at the address below. The closing period for their receipt is November 23, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: October 7, 2016.
Andrew McGilvray,
Executive Secretary.

[FR Doc. 2016-24900 Filed 10-13-16; 8:45 am]

BILLING CODE 3510-DS-P